DEPARTMENT OF DEFENSE

Department of the Navy

[USN-2006-0057]

Privacy Act of 1974; System of Records

AGENCY: Department of the Navy, DoD.

ACTION: Notice to Amend Systems of Records.

SUMMARY: The Department of the Navy is amending a system of records notice in its existing inventory of record systems subject to the Privacy Act of 1974, (5 U.S.C. 552a), as amended.

DATES: This proposed action will be effective without further notice on October 25, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 18, 2006.
C. R. Choate,
Alternate OSD Federal Register Liaison Officer, Department of Defense.

N01306-1

System name:

Job Advertisement and Selection System (JASS) (February 8, 2000, 65 FR 6184).

Changes:

* * * * *

System name:

Delete entry and replace with “Job Advertisement/Career Management/Detailing System.”

System location:

Delete entry and replace with “SPAWAR Systems Center New Orleans (SSC NOLA), 2251 Lakeshore Drive, New Orleans, LAS 70145—and all Navy afloat units.”

Categories of individuals covered by the system:

Delete entry and replace with “All Navy enlisted personnel: active, Selected Reserve (SELRES), Full Time Support (FTS), and Junior Officer Submariners.”

* * * * *

Purpose(s):

Delete entry and replace with “To administer the Job Advertisement and Selection System (JASS) and Career Management System and Interactive Detailing (CMS/ID). To assist Navy officials and employees in the initiation, development, implementation of policies pertaining to enlisted personnel assignment, placement, retention, career enhancement and motivation, and other career related matters to meet manpower allocations and requirements.”

* * * * *

Storage:

Delete entry and replace with “Automated records may be stored on magnetic tapes, disc, and drums. Manual records may be stored in paper file folders, or removable electronic storage media.”

Retrievability:

Delete entry and replace with “Name, Social Security Number, rate/pay grade, activity, and/or record status within command.”

* * * * *

System manager(s) and address:

Delete entry and replace with “Commander, Navy Personnel Command (Pers—455), 5720 Integrity Drive, Millington, TN 38055-0600.”

Notification procedure:

Delete first paragraph and replace with “Individuals seeking to determine whether this system of records contains information about themselves should address written inquiries to the Commander, Navy Personnel Command (Pers—455), 5720 Integrity Drive, Millington, TN 38055-0600.”

Record access procedures:

Delete first paragraph and replace with “Individuals seeking access to records about themselves contained in this system of records should address written inquiries to the Commander, Navy Personnel Command (Pers—455), 5720 Integrity Drive, Millington, TN 38055-0600.”

* * * * *

N01306-1

System name:

Job Advertisement/Career Management/Detailing System.

System location:

SPAWAR Systems Center New Orleans (SSC NOLA), 2251 Lakeshore Drive, New Orleans, LAS 70145—and all Navy afloat units.

Categories of individuals covered by the system:

All Navy enlisted personnel: active, Selected Reserve (SELRES), Full Time Support (FTS), and Junior Officer Submariners.

Categories of records in the system:

Limited personnel records in automated form displaying basic qualifications. This system primarily displays a listing of available billets from which a sailor can request through their career counselor.

Authority for maintenance of the system:

5 U.S.C. 301, Departmental Regulations; 10 U.S.C. 5013, Secretary of the Navy; and E.O. 9397 (SSN).

Purpose(s):

To administer the Job Advertisement and Selection System (JASS) and Career Management System and Interactive Detailing (CMS/ID).

To assist Navy officials and employees in the initiation, development, implementation of policies pertaining to enlisted personnel assignment, placement, retention, career enhancement and motivation, and other career related matters to meet manpower allocations and requirements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of system of record notices apply to this system.

Policies and practices for storing, retrieving, accessing, retaining, and disposing of records in the system:

Storage:

Automated records may be stored on magnetic tapes, disc, and drums. Manual records may be stored in paper file folders, or removable electronic storage media.

Retrievability:

Name, Social Security Number, rate/pay grade, activity, and/or record status within command.

Safeguards:

Computer processing facilities and terminals are located in restricted areas accessible only to authorized persons that are properly screened, cleared, and trained. Manual records and computer printouts are available only to authorized personnel having a need-to-know.

Retention and disposal:

Records are generally maintained until superseded or for a period of two years and then disposed of by burning or shredding.

System manager(s) and address:

Commander, Navy Personnel Command (Pers—455), 5720 Integrity Drive, Millington, TN 38055-0600.

Notification procedure:

Individuals seeking to determine whether this system of records contains information about themselves should address written inquiries to the Commander, Navy Personnel Command (Pers—455), 5720 Integrity Drive, Millington, TN 38055-0600.

The letter should contain full name, Social Security Number (and/or enlisted service number), rate, military status, and signature of the requester.

Record access procedures:

Individuals seeking access to records about themselves contained in this system of records should address written inquiries to the Commander, Navy Personnel Command (Pers—455), 5720 Integrity Drive, Millington, TN 38055-0600.

The letter should contain full name, Social Security Number (and/or enlisted service number), rate, military status, and signature of the requester.

Contesting record procedures:

The Navy's rules for accessing records, and for contesting contents and appealing initial agency determinations are published in Secretary of the Navy Instruction 5211.5; 32 CFR part 701; or may be obtained from the system manager.

Record source categories:

Personnel service jackets, correspondence, official records of professional qualifications, and educational institutions.

Exemptions claimed for the system:

None.

[FR Doc. 06-8158 Filed 9-22-06; 8:45 am]

BILLING CODE 5001-06-U